DEPARTMENT OF HEALTH AND HUMAN SERVICES

Health Resources and Services Administration

Agency Information Collection Activities: Proposed Collection: Public Comment Request: Home Visiting Assessment of Implementation Quality Study: Understanding Supervisor Supports in Home Visiting

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than April 2, 2024.

ADDRESSES: Submit your comments to paperwork@hrsa.gov or mail the HRSA Information Collection Clearance Officer, Room 14N39, 5600 Fishers Lane, Rockville, Maryland 20857.

FOR FURTHER INFORMATION CONTACT: To request more information on the proposed project or to obtain a copy of the data collection plans and draft instruments, email paperwork@hrsa.gov or call Joella Roland, the HRSA Information Collection Clearance Officer, at (301) 443-3983.

SUPPLEMENTARY INFORMATION: When submitting comments or requesting information, please include the ICR title for reference.

Information Collection Request Title: Home Visiting Assessment of Implementation Quality Study: Understanding Supervisor Supports in Home Visiting, OMB No. 0915-xxxx—[NEW].

Abstract: The Maternal, Infant, and Early Childhood Home Visiting (MIECHV) Program, authorized by Social Security Act, title V, section 511 (42 U.S.C. 711) and administered by HRSA in partnership with the Administration for Children and Families, supports voluntary, evidence-based home visiting services during pregnancy and for parents with young children up to kindergarten entry. States, tribal entities, and certain nonprofit organizations are eligible to receive funding from the MIECHV Program and have the flexibility to tailor the program to serve the specific needs of their communities. Funding recipients may subaward grant funds to local implementing agencies (LIAs) to provide home visiting services to eligible families in at-risk communities.

Through the Home Visiting Assessment of Implementation Quality study, HRSA aims to examine specific components of the Home Visiting Implementation Quality Conceptual Framework to inform strategies for implementing high quality home visiting programs. One of the three quality components the study will focus on is support for supervisors of home visitors. A qualified, stable, and supported home visitor workforce is an important quality component of home visiting, and supervision is a key part of supporting that workforce. The requested information collection will explore how training for supervisors may be linked to home visitor job satisfaction. It will also examine how supervisor training in important content areas (e.g., substance use, intimate partner violence) may affect the extent to which home visitors talk to families about these topics. Data collection will include an online recruitment survey, interviews, and focus groups.

Need and Proposed Use of the Information: HRSA is seeking additional information about how the MIECHV Program can train and support supervisors of home visitors to provide high-quality supervision. HRSA intends to use this information to identify practices that MIECHV awardees and LIAs could use to best support home visiting supervisors, improving home visitors' ability to deliver high-quality home visiting services.

Likely Respondents: MIECHV-funded LIA staff, including program directors, coordinators, supervisors, and home visitors.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Recruitment Survey | 250 | 1 | 250 | 0.17 | 42.5
LIA Program Director Interview Guide | 50 | 1 | 50 | 1.00 | 50.0
Supervisor Focus Group Protocol | 50 | 1 | 50 | 1.50 | 75.0
Home Visitor Focus Group Protocol | 50 | 1 | 50 | 1.50 | 75.0
Total | 400 |  | 400 |  | 242.5

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2024-02096 Filed 2-1-24; 8:45 am]

BILLING CODE 4165-15-P